DEPARTMENT OF COMMERCE

National Oceanic and Atmospheric Administration

RIN 0649-XE885

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a meeting of its Reef Fish Advisory Panel (AP).

DATES: The meeting will convene on Tuesday, October 4, 2016, from 8:30 a.m. to 5 p.m. and Wednesday, October 5, 2016, from 8:30 a.m. to 4 p.m. EDT.

ADDRESSES: The meeting will take place at the Gulf of Mexico Fishery Management Council Office, 2203 N. Lois Avenue, Suite 1100, Tampa, FL 33607; telephone: (813) 348-1630.

FOR FURTHER INFORMATION CONTACT: Dr. Carrie Simmons, Deputy Director, Gulf of Mexico Fishery Management Council; carrie.simmons@gulfcouncil.org; telephone: (813) 348-1630.

SUPPLEMENTARY INFORMATION:

Agenda

The Chairman will start the meeting with introductions and adoption of agenda. The AP will review and approve the minutes of two previous meetings held September 16-17, 2015 and April 1, 2016, respectively. The AP will review and discuss the Draft Proposed Fishing Regulations for Flower Garden Banks National Marine Sanctuary Expansion and a Draft Scoping Document to Evaluate Recommended Coral Areas as Habitat Areas of Particular Concern (HAPCs). The AP will review and comment on Reef Fish Amendment 36A Commercial IFQ Modifications; Reef Fish Amendment 46 Gray Triggerfish Rebuilding Plan; a Draft Framework Action to Modify Mutton Snapper Annual Catch Limits and Management Measures including an Action to Modify the Commercial Gag Minimum Size Limit. The AP will also hear a presentation on the results of the Vermilion Snapper Stock Assessment and Scientific and Statistical Committee Recommendations. The AP will review and comment on Draft Options to Modify Vermilion Snapper ACLs and Maximum Sustainable Yield Proxies. The AP will also receive a presentation on the Goliath Grouper Assessment and Scientific and Statistic Committee Recommendations. The AP will review and provide recommendations on Modifications to Charter Vessel and Headboat Reporting Requirements and have a discussion on the Carryover of any Underharvested Red Snapper Annual Catch Limit to the Following Season. Under Other Business, the AP will discuss and potentially make recommendations on a Recreational and Commercial Allocation Exchange to the Council.

—Meeting Adjourns—

The Agenda is subject to change, and the latest version along with other meeting materials will be posted on the Council's file server. To access the file server, the URL is https://public.gulfcouncil.org:5001/webman/index.cgi, or go to the Council's Web site and click on the FTP link in the lower left of the Council Web site (http://www.gulfcouncil.org). The username and password are both “gulfguest”. Click on the “Library Folder”, then scroll down to “Reef Fish AP 10-2016”.

The meeting will be webcast over the internet. A link to the webcast will be available on the Council's Web site, http://www.gulfcouncil.org.

Although other non-emergency issues not on the agenda may come before the AP for discussion, in accordance with the Magnuson-Stevens Fishery Conservation and Management Act, those issues may not be the subject of formal action during this meeting. Actions of the AP will be restricted to those issues specifically identified in the agenda and any issues arising after publication of this notice that require emergency action under section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: September 13, 2016.
Jeffrey N. Lonergan,
Acting Deputy Director, Office of Sustainable Fisheries, National Marine Fisheries Service.

[FR Doc. 2016-22333 Filed 9-15-16; 8:45 am]

BILLING CODE 3510-22-P